DEPARTMENT OF TRANSPORTATION

Federal Aviation Administration

Thirteenth Meeting: Joint RTCA Special Committee 213: EUROCAE WG-79: Enhanced Flight Vision Systems/Synthetic Vision Systems (EFVS/SVS)

AGENCY: Federal Aviation Administration (FAA), Department of Transportation (DOT).

ACTION: Notice of Joint RTCA Special Committee 213: EUROCAE WG-79: Enhanced Flight Vision Systems/Synthetic Vision Systems (EFVS/SVS).

SUMMARY: The FAA is issuing this notice to advise the public of a meeting of Joint RTCA Special Committee 213: EUROCAE WG-79: Enhanced Flight Vision Systems/Synthetic Vision Systems (EFVS/SVS).

DATES: The meeting will be held March 29-31, from 8:30 a.m.-5 p.m.

ADDRESS: The meeting will be held at RTCA, Inc., 1828 L Street, NW., Suite 805, Washington, DC 20036. Point of Contact is Jiverson@rtca.org, telephone (202) 833-9339, Fax (202) 833-9434.

FOR FURTHER INFORMATION CONTACT: (1) RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Joint RTCA Special Committee 213: EUROCAE WG-79: Enhanced Flight Vision Systems/Synthetic Vision Systems (EFVS/SVS) meeting.

The agenda will include:

Tuesday, March 29

• 8 a.m.-5 p.m. Plenary discussion.

• Introductions and administrative items.

• Review and approve minutes from last full plenary meeting.

• Review Advanced Vision Systems performance objectives.

• Review DO-315B FRAC Draft.

Wednesday, March 30

• 8 a.m.-5 p.m. Plenary Discussion 1 (SVS) and Working Group 2 (EFVS) discussion.

Thursday, March 31

• 8 a.m.-3 p.m. Plenary discussion.

• Advanced Vision Systems Discussion.

• Administrative items (meeting schedule).

• Adjourn.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, February 25, 2011.
Robert L. Bostiga,
RTCA Advisory Committee.

[FR Doc. 2011-4766 Filed 3-2-11; 8:45 am]

BILLING CODE 4910-13-P